DEPARTMENT OF ENERGY

Federal Energy Regulatory Commission

[Project No. 12094-000, Washington]

Hydro Technology Systems, Inc.; Notice of Availability of Environmental Assessment

April 23, 2002.

In accordance with the National Environmental Policy Act of 1969 and the Federal Energy Regulatory Commission's (Commission) regulations, 18 CFR part 380 (Order No. 486, 52 FR 47897), the Office of Energy Projects has reviewed the application for exemption from licensing for the Meyers Falls 1910 Hydroelectric Project, located on the Colville River in Stevens County near the city of Kettle Falls, Washington, and has prepared an Environmental Assessment (EA) for the project.

The EA contains the staff's analysis of the potential environmental impacts of the project and concludes that exempting the project from licensing, with appropriate environmental protective measures, would not constitute a major federal action that would significantly affect the quality of the human environment.

A copy of the EA is on file with the Commission and is available for public inspection. The EA may also be viewed on the Web at http://www.ferc.gov using the “RIMS” link—select “Docket #” and follow the instructions (call 202-208-2222 for assistance).

For further information, contact John Smith at (202) 219-2460.

Magalie R. Salas,
Secretary.

[FR Doc. 02-10444 Filed 4-26-02; 8:45 am]

BILLING CODE 6717-01-P